DEPARTMENT OF THE INTERIOR

Bureau of Land Management

[CA-660-04-2822]

Notice of Emergency Temporary Closure of Public Lands to Motorized Vehicles and Certain Other Uses in San Diego County, CA, Under Burned Area Emergency Stabilization and Restoration

AGENCY: Bureau of Land Management, Interior.

ACTION: Emergency temporary closure to motorized and mechanized vehicle use and certain other uses on public lands administered by the Bureau of Land Management (BLM), Palm Springs-South Coast Field Office, California.

SUMMARY: The BLM Palm Springs-South Coast Field Office is temporarily closing portions of public lands to motorized and mechanized vehicle use, and prohibiting or restricting certain other uses, in the South Coast Resource Area in San Diego County, California. This closure is needed to protect public health and safety, cultural and natural resources, and stabilization treatments as recommended in the Department of the Interior's Burned Area Emergency Stabilization and Rehabilitation (BAER) Plan for the Otay fire in San Diego County.

DATES: This closure is in effect from March 30, 2004, until October 30, 2004. The closure may be lifted sooner if BLM determines that road repairs, revegetation, and stabilization efforts have reduced safety hazards and if treatments result in successful regrowth of desired vegetation.

ADDRESSES: Copies of the closure and a map of the closed areas can be obtained at the BLM, Palm Springs-South Coast Field Office, 690 West Garnet Avenue, North Palm Springs, CA 92258, telephone (760) 251-4800; BLM, California State Office, 2800 Cottage Way, Room W-1834, Sacramento, CA 95825, telephone (916) 978-4600. BLM will also announce the closure through local media outlets, by posting this notice with a map of the closed areas at key locations that provide access to the closure areas.

FOR FURTHER INFORMATION CONTACT: Greg Hill, Bureau of Land Management, phone (760) 251-4800 or by e-mail at Greg_Hill@blm.gov.

SUPPLEMENTARY INFORMATION: The public lands affected by the Otay Fire and addressed in the BAER Plan are closed to all motorized and mechanized vehicle use (i.e. including trucks, sport utility vehicles, all-terrain vehicles, cars, motorcycles, mountain bikes, etc.), except for authorized access to private lands, or other authorized use, fire, law enforcement, and emergency activities. The authorities for this closure and restriction order are 43 CFR 8364.1 and 9268.3(d).

The following paragraphs explain the background for BLM's management of the closed lands, and the reasons for the closures and restriction.

These closures and restrictions apply to BLM-managed public lands within the boundary of the San Diego National Wildlife Refuge (Jamul Mountains), and the public lands south of State Highway 94 to the US-Mexico border, east of Otay Lakes Road, and west of Marron Valley Road. These lands are part of the Otay/Kuchamaa Cooperative Management Area, as described under the San Diego Multiple Species Conservation Program (MSCP). The lands are managed to protect the wilderness values of the Otay Mountain Wilderness, habitat for several threatened and endangered plant and animal species, cultural resources, and public open space. These public lands are managed under the 1994 South Coast Resource Management Plan (RMP). Under the San Diego County Management Area of the South Coast RMP, motorized vehicle use is limited to existing routes of travel. The Otay Mountain Wilderness and the Cedar Canyon ACEC are closed to motorized vehicle use under existing legislation and the South Coast RMP. This closure and restriction order applies to approximately 21,924 acres of public lands affected by the Otay Fire of October 2003.

The Otay Mountain Truck Trail, Minnewawa Truck Trail, and portions of Marron Valley Road provide access to public lands on and around Otay Mountain and Marron Valley. Most of Marron Valley is owned by the San Diego Water Department and is not open to the public. Motorized and mechanized vehicle use is not permitted in the Otay Mountain Wilderness. This temporary closure affects all sections of the Otay Mountain Truck Trail and Minnewawa Truck Trail on public lands, and the section of Marron Valley Road on public lands south of the intersection with the Otay Mountain Truck Trail. All routes, spurs, trails or ways on public lands connecting to these roads, within the area described above, are also closed.

These lands and roads are temporarily closed to vehicles under the BAER Plan/Environmental Assessment and Decision Record dated November 15, 2003, to protect public health and safety from rockslides and slope failures due to loss of vegetation and falling trees in the areas affected by fire, and to allow for post-fire road reconstruction and maintenance. Vehicle use in the Otay Mountain Wilderness is prohibited, but the threat from illegal vehicle use may increase due to lack of vegetation and other physical barriers that previously blocked access. There is also the increased potential for the introduction of invasive/non-native plants in burned areas from motorized and mechanized vehicles, and the potential for collection or looting of cultural and historical artifacts now revealed due to loss of vegetation. The “White Cross” road is also closed to prevent access to sensitive Border Patrol operational areas along the US-Mexico border.

Sycamore Canyon and surrounding lands, including the Clark Ranch, were purchased between 1999 and 2001 as BLM additions to the San Diego MSCP preserve system. Sycamore Canyon contains riparian vegetation, including oaks and Tecate cypress. The mouth of Sycamore Canyon is relatively flat and exposed due to loss of vegetation from the Otay Fire. This area contains several recorded cultural sites and is planned for emergency reseeding to control invasive species and re-establish native plant species. These lands are closed to all motorized and mechanized vehicle use, except as authorized, to prevent driving off road and affecting exposed cultural resources, vegetation treatments and seedings, and to control erosion and distribution of non-native plant seeds on vehicle tires. The vehicle closure is also intended to limit impacts to surviving and recovering Quino checkerspot butterfly larvae, host plants, and nectar sources. These public lands are within designated Critical Habitat for the federally listed Quino checkerspot butterfly (QCB). Sycamore Canyon is within the U.S. Fish and Wildlife (FWS) designated Dulzura Occurrence Complex for QCB. Direct impacts to QCB habitat, specifically impacts to regrowth of host plants and nectar sources, could occur from uncontrolled use of off-road vehicles.

Closure Order

Section 1. Closed Lands

Public lands in the following described tracts are closed to motorized and mechanized vehicles:

Township 17 South, Range 1 East, SBBM;

Township 17 South, Range 2 East, SBBM;

Township 18 South, Range 1 East, SBBM;

Township 18 South, Range 2 East, SBBM.

Section 2. Prohibited Acts and Restrictions

The following prohibitions and restrictions apply on the lands described for the duration of the emergency closure:

a. You must not travel on foot or horseback except on existing roads.

b. You must not camp, build campfires, or set ground fires.

c. You must not engage in target shooting.

d. You may hunt consistent with California Department of Fish and Game regulations.

Section 3. Exceptions to Closure and Restriction Order

These closures and restrictions do not apply to authorized law enforcement, fire suppression, and/or resource management and recovery activities, or to access to private property by the property owners or persons with appropriate authorization. Nothing in this closure is intended to affect legal hunting as consistent with California Department of Fish and Game regulations.

Section 4. Penalties

Under section 303(a) of the Federal Land Policy and Management Act of 1976 (43 U.S.C. 1733(a)) and 43 CFR 8360.0-7, if you violate these closures or restrictions on public lands within the boundaries established, you may be tried before a United States Magistrate and fined no more than $1,000 or imprisoned for no more than 12 months, or both. Such violations may also be subject to the enhanced fines provided for by 18 U.S.C. 3571.

Section 5. Conditions for Ending Closures and Restrictions

Soil stabilization, revegetation, road repairs, and treatments to control invasive species will be considered successful, and the area may be returned to pre-closure travel designations and opened sooner than October 30, 2004, if and when the following occur:

a. All culverts, road safety signs, and safety mirrors are repaired or replaced on the Otay Mountain and Minnewawa Truck Trails on Otay Mountain.

b. All fencing and gates have been replaced.

c. Slopes and soils above the Otay Mountain and Minnewawa Truck Trails show signs of stabilization and have not experienced slope failure through at least one winter season and at least two major rain events.

d. Regrowth of vegetation has sufficiently obscured cultural sites previously exposed by fires.

e. Seeding treatments on 250 acres in Sycamore Canyon have resulted in at least 30% regeneration of native species, or have been deemed unsuccessful after at least one full growing season.

Bruce Shaffer,
Acting Palm Springs-South Coast Field Manager.

[FR Doc. 04-6998 Filed 3-29-04; 8:45 am]

BILLING CODE 4310-40-P